DEPARTMENT OF ENERGY

Federal Energy Regulatory Commission

[Docket No. EL09-5-000]

Cargill Power Markets, LLC, Complainant, v. Central Maine Power Company, NSTAR Electric, The United Illuminating Company, Respondents; Notice of Complaint

October 27, 2008.

Take notice that on October 24, 2008, Cargill Power Markets, LLC (CPM), tendered for filing a Complaint against Central Maine Power Company (CMP), NSTAR Electric Company (NSTR), and The United Illuminating Company (UICO), (collectively the Schedule 20A Service Providers (SSPs)), pursuant to Rules of Practice and Procedure, 18 CFR 385.206 and section 206 of the Federal Power Act. CPM also requests fast track processing the Commission.

CPM states that on November 1, 2007, CPM submitted several Transmission Service Requests for long-term firm point-to-point transmission service which interconnect the Independent System Operator New England, Inc's grid to Hydro-Quebec TransEnergie. Through the SSPs' allocation process, CPM was awarded long-term firm point-to-point service and executed multiple transmission service agreements. CPM sought to renew its transmission service agreements in accordance with Order No. 888's rollover provisions. CPM's rollover requests were denied. In response to those denials, CPM contracted the SSPs to ascertain why long-term firm service entered into the fall of 2007 could not be rolled over. The SSPs responded that the Order No. 890 rollover provisions applied to CPM's transmission service, and that since all of CPM's service agreements were for less than five years duration, they were not eligible for rollover.

However, in Order No. 890-B, the Commission clarified that the Order No. 890 rollover reforms were not to be implemented until after acceptance of a Transmission Provider's Attachment K. All of CPM's transmission service was awarded prior to the effectiveness of the SSP's Attachment K. Therefore, CPM respectfully requests the Commission to grant its Complaint and direct CMP, NSTR and UICO to grant rollover right to CPM.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on November 7, 2008.

Kimberly D. Bose,
Secretary.

[FR Doc. E8-26083 Filed 10-31-08; 8:45 am]

BILLING CODE 6717-01-P